COMMISSION ON CIVIL RIGHTS

Agenda and Notice of Public Meeting of the Colorado Advisory Committee

Notice is hereby given, pursuant to the provisions of the rules and regulations of the U.S. Commission on Civil Rights, that a meeting of the Colorado Advisory Committee to the Commission will convene at 1 p.m. and recess at 8 p.m. on Monday, May 7, 2001, at the Adams Mark, 743 Horizon Drive, Grand Junction, Colorado 81506. The purpose of the meeting is to plan future activities and brief the Committee on community forum format. The Committee will reconvene at 8:30 a.m. and adjourn at 8 p.m. on Tuesday, May 8, 2001, at the same location (the Adams Mark). The purpose of the meeting is to hold a community forum to obtain information on civil rights issues affecting Grand Junction and western Colorado by inviting community leaders, elected officials and institutional representatives to share views, experiences and information.

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, April 4, 2001.
Edward A. Hailes, Jr.,
General Counsel.

[FR Doc. 01-8696 Filed 4-9-01; 8:45 am]

BILLING CODE 6335-01-P